DEPARTMENT OF ENERGY

Federal Energy Regulatory Commission

Combined Notice of Filings #1

June 22, 2005.

Take notice that the Commission received the following electric rate filings.

Docket Numbers: ER00-980-012.

Applicants: Bangor Hydro-Electric Company.

Description: Bangor Hydro-Electric Company, pursuant to the settlement agreement filed on 11/1/00 and the Commission's order issued 2/26/01, submits an informational filing showing the implementation of their formula rate for the charges that became effective 6/1/05.

Filed Date: 06/15/2005.

Accession Number: 20050621-0226.

Comment Date: 5 p.m. eastern time on Wednesday, July 6, 2005.

Docket Numbers: ER00-1053-015.

Applicants: Maine Public Service Company.

Description: Maine Public Service Company, pursuant to the settlement agreement filed on 2/11/04 and the Commission's order issued 4/1/04, submits its informational filing setting forth the changed open access transmission tariff charges with an effective date of 6/1/05 together with back-up materials.

Filed Date: 06/15/2005.

Accession Number: 20050621-0225.

Comment Date: 5 p.m. eastern time on Wednesday, July 6, 2005.

Docket Numbers: ER00-3614-004.

Applicants: BP Energy Company.

Description: BP Energy Company submits an updated market analysis .

Filed Date: 06/17/2005.

Accession Number: 20050621-0001.

Comment Date: 5 p.m. eastern time on Friday, July 8, 2005.

Docket Numbers: ER05-1121-000.

Applicants: Aquila Inc.

Description: Aquila, Inc. submits an Incremental Energy Agreement between Aquila Networds-WPK and the City of Beloit, Kansas, dated 6/7/05 and designated as FERC Electric Rate Schedule 131.

Filed Date: 06/17/2005.

Accession Number: 20050621-0011.

Comment Date: 5 p.m. eastern time on Friday, July 8, 2005.

Docket Numbers: ER05-1122-000.

Applicants: FirstEnergy Generation Corp.

Description: FirstEnergy Nuclear Generation Corp. submits its FERC Electric Tariff, Original Volume 1, for the sale of power to wholesale purchasers at market-based rates.

Filed Date: 06/17/2005.

Accession Number: 20050621-0012.

Comment Date: 5 p.m. eastern time on Friday, July 8, 2005.

Docket Numbers: ER05-1125-000.

Applicants: Equitec Power, LLC.

Description: Equitec Power, LLC submits a Notice of Cancellation of its Market Base Rate Authority to be effective June 13, 2005.

Filed Date: 06/16/2005.

Accession Number: 20050620-0132.

Comment Date: 5 p.m. eastern time on Thursday, July 7, 2005.

Docket Numbers: ER05-1126-000.

Applicants: Virginia Electric and Power Company.

Description: Virginia Electric & Power Company d/b/a Dominion Virginia Power submit twenty-one interconnection agreements with its customers under PJM Interconnection, LLC's FERC Electric Tariff, Sixth Revised Volume No. 1

Filed Date: 06/15/2005.

Accession Number: 20050622-0025.

Comment Date: 5 p.m. eastern time on Wednesday, July 6, 2005.

Docket Numbers: ER05-569-002.

Applicants: Indianapolis Power & Light Company.

Description: Midwest Independent Transmission System Operator, Inc., submits an amendment to its 5/20/05 filing in Docket No. ER05-569-001 of an Interconnection Agreement with DTE Georgetown, LP.

Filed Date: 06/17/2005.

Accession Number: 20050621-0005.Comment Date: 5 p.m. eastern time on Friday, July 8, 2005.

Docket Numbers: ER05-635-001.

Applicants: American Electric Power Service Corporation.

Description: American Electric Power Service Corporation, on behalf of the AEP Operating Companies in its East Zone, submits for re-filing an Interconnection & Local Delivery Service Agreement with Blue Ridge Power Agency in compliance with the Commission's order issued 4/18/2005 in Docket No. ER05-635-000.

Filed Date: 06/17/2005.

Accession Number: 20050621-0004.

Comment Date: 5 p.m. eastern time on Friday, July 8, 2005.

Docket Numbers: ER05-709-002.

Applicants: Virginia Electric and Power Company.

Description: Virginia Electric and Power Company d/b/a Dominion Virginia Power amends an agreement with Virginia Municipal Electric Association #1 originally filed on 3/16/05 and amended on 4/22/05 in Docket Nos. ER05-709-000 and 001, respecitively.

Filed Date: 06/17/2005.

Accession Number: 20050621-0009.

Comment Date: 5 p.m. eastern time on Friday, July 8, 2005.

Docket Numbers: ER05-722-002.

Applicants: Carolina Power & Light Company.

Description: Carolina Power & Light Company d/b/a Progress Energy Carolinas, Inc., submits a revision to the Power Supply Agreement with North Carolina Electric Membership Corporation in compliance with the Commission's 5/20/05 letter order in Docket No. ER05-722-000.

Filed Date: 06/17/2005.

Accession Number: 20050621-0016.

Comment Date: 5 p.m. eastern time on Friday, July 8, 2005.

Docket Numbers: ER05-856-001.

Applicants: Virginia Electric and Power Company.

Description: Virginia Electric & Power Company submits an amendment to its 4/22/05 filing in Docket No. ER05-856-000 of an agreement for the Purchase of Electricity for Resale between Dominion and the Town of Windsor.

Filed Date: 06/17/2005.

Accession Number: 20050621-0008.

Comment Date: 5 p.m. eastern time on Friday, July 8, 2005.

Docket Numbers: ER05-980-001.

Applicants: American Transmission Systems, Incorporated.

Description: American Transmission System, Incorporated submits an amendment to its 5/19/05 filing in Docket No. ER05-980-000—a revised page to the Construction Agreement with Holmes-Wayne Electric Cooperative, Inc. & Buckeye Power, Inc.

Filed Date: 06/17/2005.

Accession Number: 20050621-0007.

Comment Date: 5 p.m. eastern time on Friday, July 8, 2005.

Docket Numbers: ER95-1278-015; ER02-580-003; ER05-698-003.

Applicants: NAP Trading & Marketing, Inc.; Pawtucket Power Associates Limited Partnership; San Joaquin Cogen, L.L.C.

Description: NAP Trading and Marketing, Inc., Pawtucket Power Associates Limited Partnership and San Joaquin Cogen, L.L.C. submit notices of change in status for NAP Trading and Pawtucket; a consolidated triennial filing; a request for a future consolidated triennial filing date; and amendments to market-based rate tariffs of NAP Trading and Pawtucket.

Filed Date: 06/16/2005.

Accession Number: 20050621-0006.

Comment Date: 5 p.m. eastern time on Thursday, July 7, 2005.

Docket Numbers: ER98-2329-006.

Applicants: Central Vermont Public Service Corp.

Description: Central Vermont Public Service Corporation submits revised tariff sheets modifying its market-based rate tariff in compliance with the Commission's 5/26/05 Order in Docket No. ER98-2329-003, 004 and 005.

Filed Date: 06/17/2005.

Accession Number: 20050621-0010.

Comment Date: 5 p.m. eastern time on Friday, July 8, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3375 Filed 6-28-05; 8:45 am]

BILLING CODE 6717-01-P